DEPARTMENT OF TRANSPORTATION

Pipeline and Hazardous Materials Safety Administration

Office of Hazardous Materials Safety; List of Applications Delayed More Than 180 Days

AGENCY: Pipeline and Hazardous Materials Safety Administration (PHMSA), DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535

Key to “Reason for Delay”

1. Awaiting additional information from applicant

2. Extensive public comment under review

3. Application is technically complex and is of significant impact or precedent-setting and requires extensive analysis

4. Staff review delayed by other priority issues or volume of special permit applications

Meaning of Application Number Suffixes

N—New Application

M—Modification Request

R—Renewal Request

P—Party To Exemption Request

Issued in Washington, DC, on May 13, 2014.
Donald Burger,
Chief, General Approvals and Permits.

Modification to Special Permits
Application No. | Applicant | Reason for delay | Estimated date of completion
15854-M | Colmac Coil Manufacturing, Inc., Colville, WA | 4 | 05-31-2014
11373-M | Marlin Company, Inc., Lenoir, NC | 4 | 05-31-2014
15642-M | Praxair Distribution, Inc., Danbury, CT | 4 | 05-31-2014
14313-M | Airgas USA, LLC., Tulsa, OK | 4 | 06-30-2014
9610-M | ATK Small Caliber Systems, Independence, MO | 4 | 05-31-2014
12629-M | TEA Technologies, Inc., Amarillo, TX | 4 | 06-30-2014
12184-M | Weldship Corporation, Bethlehem, PA | 4 | 05-31-2014
New Special Permit Applications
15767-N | Union Pacific Railroad Company, Omaha, NE | 1 | 05-31-2014
15973-N | Codman & Shurtleff, Inc., Raynham, MA | 4 | 07-31-2014
15955-N | Thompson Tank, Inc., Lakewood, CA | 4 | 05-31-2014
15991-N | Dockweiler, Neustadt-Glewe, Germany | 4 | 07-31-2014
16077-N | Americase, Waxahache, TX | 4 | 06-30-2014
15999-N | National Aeronautics and Space Administration (NASA), Washington, DC | 4 | 07-31-2014
16001-N | VELTEK, Malvern, PA | 4 | 07-31-2014
16120-N | Pacific Helicopter Tours, Inc., Kahului, HI | 4 | 05-31-2014
Renewal Special Permits Applications
14267-R | LATA Environmental Services of Kentucky, LLC (LATA Kentucky), Kevil, KY | 3 | 05-31-2014
14566-R | Nantong CIMC Tank Equipment Co. Ltd., Nantong, Jiangsu Province | 4 | 05-31-2014
13083-R | Rockwood Pigments NA, Inc., St. Louis, MO | 4 | 07-31-2014
11602-R | East Tennessee Iron & Metal, Inc., Rogersville, TN | 4 | 06-30-2014

[FR Doc. 2014-12439 Filed 5-30-14; 8:45 am]

BILLING CODE 4910-60-M